DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on January 4, 2006.

DATES: Comments must be submitted on or before May 1, 2006.

FOR FURTHER INFORMATION CONTACT: Carman Hayes National Highway Traffic Safety Administration, Office of Injury Control Operations & Resources (NTI-200), 202-366-2685, 400 Seventh Street, SW., 5119E, Washington, DC 20590.

SUPPLEMENTARY INFORMATION:

National Highway Traffic Safety Administration

Title: 23 CFR Part 1313 Certificate Requirements for Section 410 Alcohol Impaired Driving Countermeasures.

OMB Number: 2127-0501.

Type of Request: Extension of a currently approved collection.

Abstract: Title 23 of the U.S. Code established a federal alcohol incentive grant program designed to encourage State to enact strong, effective anti-drunk driving legislation and improve the enforcement of these laws.

Affected Public: All 50 States, District of Columbia, Puerto Rico, and the Territories.

Estimated Total Annual Burden: 51,530 hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on March 23, 2006.
Marlene Markison,
Associate Administrator for Office of Injury Control Operations & Resources.

[FR Doc. E6-4682 Filed 3-30-06; 8:45 am]

BILLING CODE 4910-59-P